LIBRARY OF CONGRESS

36 CFR Part 701

[Docket No. 2020-2]

Amendments Regarding International Service

AGENCY: Library of Congress.

ACTION: Final rule.

SUMMARY: The Library of Congress is adopting amendments to allow for international service for loans of library materials for blind and other print disabled persons, as authorized by Title XIV of the Library of Congress Technical Corrections Act of 2019.

DATES: Effective July 28, 2020.

FOR FURTHER INFORMATION CONTACT: Emily Vartanian, Senior Counsel, Library of Congress Office of the General Counsel, 202-707-7205, evar@loc.gov.

SUPPLEMENTARY INFORMATION: The Librarian of Congress is authorized to make regulations with respect to the Library of Congress (2 U.S.C. 136). Since neither the Federal Register Act nor the Administrative Procedure Act has binding effect on the legislative branch, the Library of Congress is not required to publish its regulations in the CFR. However, because the purpose of the CFR is to “notify industry, general business, and the people” (Toledo, P & W.R.R. v. Stover, 60 F. Supp. 587 (S.D. Ill. 1945)), it is appropriate for the Library to continue publishing those regulations which affect the rights and responsibilities of, and restrictions on, the public.

The Library of Congress is adopting amendments to allow for international service for loans of library materials for blind and other print disabled persons, as authorized by Title XIV of the Library of Congress Technical Corrections Act of 2019.

List of Subjects in 36 CFR Part 701

Libraries, Seals and insignia.

Final Regulation

For the reasons set forth in the preamble, the Library of Congress amends 36 CFR part 701 as follows:

PART 701—PROCEDURES AND SERVICES

1. The authority citation for part 701 continues to read as follows:

Authority: 2 U.S.C. 136; 18 U.S.C. 1017.

2. Amend § 701.6 by redesignating paragraph (h) as paragraph (i) and adding a new paragraph (h) to read as follows:

§ 701.6 Loans of library materials for blind and other physically handicapped persons.

* * * * *

(h) International service. The Librarian of Congress is authorized by Public Law 116-94, Title XIV, the Library of Congress Technical Corrections Act of 2019, to provide literary works published in raised characters, on sound-reproduction recordings, or in any other accessible format, and musical scores, instructional texts, and other specialized materials used in furthering educational, vocational, and cultural opportunities in the field of music published in any accessible format, to authorized entities located in a country that is a party to the Marrakesh Treaty, if any such items are delivered to authorized entities through online, not physical, means. The Librarian may contract or otherwise arrange with such authorized entities to deliver such items to eligible persons located in their countries in any accessible format and consistent with section 121A of title 17, United States Code. “Eligible persons” for the purpose of this paragraph (h) has the meaning given it in 17 U.S.C. 121. Each authorized entity shall be contractually required to ensure that items originating from the Library of Congress are distributed only to eligible persons.

* * * * *

Dated: July 22, 2020.
Carla D. Hayden,
Librarian of Congress.

[FR Doc. 2020-16270 Filed 7-27-20; 8:45 am]

BILLING CODE 1410-30-P